DEPARTMENT OF HEALTH AND HUMAN SERVICES

Food and Drug Administration

[Docket No. FDA-2012-N-0190]

Abbott Laboratories et al.; Withdrawal of Approval of 35 New Drug Applications and 64 Abbreviated New Drug Applications

AGENCY: Food and Drug Administration, HHS.

ACTION: Notice.

SUMMARY: The Food and Drug Administration (FDA) is withdrawing approval of 35 new drug applications (NDAs) and 64 abbreviated new drug applications (ANDAs) from multiple applicants. The holders of the applications notified the Agency in writing that the drug products were no longer marketed and requested that the approval of the applications be withdrawn.

DATES: Effective Date: April 18, 2012.

FOR FURTHER INFORMATION CONTACT: Florine P. Purdie, Center for Drug Evaluation and Research, Food and Drug Administration, 10903 New Hampshire Ave., Bldg. 51, rm. 6366, Silver Spring, MD 20993-0002, 301-796-3601.

SUPPLEMENTARY INFORMATION: The holders of the applications listed in table 1 in this document have informed FDA that these drug products are no longer marketed and have requested that FDA withdraw approval of the applications under the process in § 314.150(c) (21 CFR 314.150(c)). The applicants have also, by their requests, waived their opportunity for a hearing. Withdrawal of approval of an application or abbreviated application under § 314.150(c) is without prejudice to refiling.

Table 1
Application No. | Drug | Applicant
NDA 005545 | Dicumarol Tablets | Abbott Laboratories, PA77/Bldg. AP30-1E, 200 Abbott Park Rd., Abbott Park, IL 60064-6157.
NDA 005845 | Benadryl (diphenhydramine hydrochloride (HCl)), Benadryl with Ephedrine Sulfate, and Caladryl (diphenhydramine HCl and calamine) | McNeil Consumer Healthcare, Division of McNeil-PPC, Inc., 7050 Camp Hill Rd., Fort Washington, PA 19034-2299.
NDA 006146 | Benadryl (diphenhydramine HCl)) Injection | Do.
NDA 006773 | Artane (trihexyphenidyl HCl) Tablets and Capsules and Artane (trihexyphenidyl) Elixir | Lederle Laboratories, d/b/a Wyeth Pharmaceuticals, P.O. Box 8299, Philadelphia, PA 19101-8299.
NDA 009486 | Benadryl (diphenhydramine HCl)) Injection Preservative Free | McNeil Consumer Healthcare.
NDA 010021 | Placidyl (ethchlorvynol) Capsules | Abbott Laboratories, 200 Abbott Park Rd., Abbott Park, IL 60064.
NDA 011552 | Stelazine (trifluoperazine HCl) | GlaxoSmithKline, P.O. Box 13398, Five Moore Dr., Research Triangle Park, NC 27709-3398.
NDA 012524 | Enduron (methyclothiazide) Tablets, 2.5 milligrams (mg) and 5 mg | Abbott Laboratories, PA77/Bldg. AP30-1E, 200 Abbott Park Rd., Abbott Park, IL 60064-6157.
NDA 012775 | Enduronyl and Enduronyl Forte (methyclothiazide and deserpidine) Tablets | Do.
NDA 014684 | Aventyl (nortriptyline HCl) Capsules | Eli Lilly and Co., Lilly Corp. Center, Indianapolis, IN 46285.
NDA 017577 | Ditropan (oxybutynin chloride) Tablets | Janssen Pharmaceuticals Inc., c/o Johnson & Johnson Pharmaceutical Research and Development, LLC, 920 Route 202, P.O. Box 300, Raritan, NJ 08869.
NDA 018473 | Ventolin (albuterol) Inhalation Aerosol¹ | GlaxoSmithKline.
NDA 018557 | Fansidar (sulfadoxine and pyrimethamine) Tablets, 500 mg and 25 mg | Hoffman-La Roche, Inc., 340 Kingsland St., Nutley, NJ 07110-1199.
NDA 018709 | Capozide (captopril and hydrochlorothiazide) Tablets | Bristol-Myers Squibb Co., P.O. Box 4000, Princeton, NJ 08543-4000.
NDA 018814 | Heparin Sodium in 5% Dextrose Injection | Baxter Healthcare Corp., 1620 Waukegan Rd., MPGR-AL, McGaw Park, IL 60085.
NDA 019297 | Novantrone (mitoxantrone HCl) Injection | EMD Serono, One Technology Place, Rockland, MA 02370.
NDA 019508 | Axid (nizatidine) Capsules | SmithKline Beecham Corp., d/b/a GlaxoSmithKline, P.O. Box 13398, Five Moore Dr., Research Triangle Park, NC 27709-3398.
NDA 019915 | Monopril (fosinopril sodium) Tablets, 10 mg, 20 mg, and 40 mg | Bristol-Myers Squibb Co.
NDA 019946 | Nuromax (doxacurium chloride) Injection 1 mg/milliliter (mL) | Abbott Laboratories, P76/Bldg. AP30-1E, Abbott Park, IL 60064-6157.
NDA 019960 | Manoplax (flosequinan) Tablets | Do.
NDA 020057 | Ceredase (alglucerase) Injection | Genzyme Corp., 500 Kendall St., Cambridge, MA 02142.
NDA 020088 | Norplant System (levonorgestrel) Implants | Wyeth Pharmaceuticals, Inc., P.O. Box 8299, Philadelphia, PA 19101-8299.
NDA 020101 | Prozac (fluoxetine HCl) Oral Solution, 20 mg/5 mL | Eli Lilly and Co.
NDA 020236 | Serevent (salmeterol xinafoate) Inhalation Aerosol¹ | GlaxoSmithKline.
NDA 020286 | Monopril-HCT (fosinopril sodium and hydrochlorothiazide) Tablets, 20 mg/12.5 mg and 10 mg/12.5 mg | Bristol-Myers Squibb Co.
NDA 020403 | Zofran (ondansetron HCl) Injection | Glaxo Wellcome Manufacturing Pte Limited, d/b/a GlaxoSmithKline, 1250 Collegeville Rd., UP4110, Collegeville, PA 19426.
NDA 020627 | Norplant II System (levonorgestrel) Implants | Wyeth Pharmaceuticals, Inc.
NDA 020828 | Fortovase (saquinavir) Capsules, 200 mg | Hoffman-La Roche, Inc.
NDA 020860 | Levlite (ethinyl estradiol and levonorgestrel) Tablets | Bayer HealthCare Pharmaceuticals Inc., P.O. Box 1000, Montville, NJ 07045.
NDA 020984 | Raplon (rapacuronium bromide) for Injection | Organon USA Inc., 2000 Galloping Hill Rd., Kenilworth, NJ 07033.
NDA 021120 | Novantrone (mitoxantrone HCl) Injection | EMD Serono.
NDA 021793 | Reglan ODT (metoclopramide) Tablets | Meda Pharmaceuticals Inc., 200 North Cobb Parkway, Suite 428, Marietta, GA 30062.
ANDA 040207 | Prochlorperazine Maleate Tablets USP, 5 mg and 10 mg | Duramed Pharmaceuticals, Inc., 400 Chestnut Rd., Woodcliff Lake, NJ 07677.
ANDA 040231 | Chlorpromazine HCl Oral Concentrate USP, 30 mg/mL | Pharmaceutical Associates, Inc., 201 Delaware St., Greenville, SC 29605.
NDA 050526 | Staticin (erythromycin) Topical Solution, 1.5% | Bristol-Myers Squibb Co.
NDA 050687 | Banan (cefpodoxime proxetil) Tablets, 100 mg and 200 mg | Daiichi Sankyo, Inc., 399 Thornall St., 11th Floor, Edison, NJ 08837.
NDA 050688 | Banan (cefpodoxime proxetil) Granules for Oral Suspension, 50 mg/5 mL and 100 mg/5 mL | Do.
ANDA 064098 | Amikacin Sulfate Injection USP, 250 mg (base)/mL | Hospira, Inc., 275 North Field Dr., Bldg. H2-2, Lake Forest, IL 60045.
ANDA 064106 | Mitomycin for Injection USP, 20 mg Vial | Do.
ANDA 070505 | Metoclopramide Injection USP, 5 mg/mL | Do.
ANDA 070506 | Metoclopramide Injection USP, 5 mg/mL | Do.
ANDA 070566 | Nitropress (sodium nitroprusside for Injection USP), 50 mg | Do.
ANDA 071015 | Haloperidol Oral Solution USP, 2 mg/mL | Teva Pharmaceuticals USA, 1090 Horsham Rd., P.O. Box 1090, North Wales, PA 19454.
ANDA 071554 | Thiothixene HCl Oral Solution USP, 5 mg/mL | Do.
ANDA 073058 | Fluphenazine HCl Oral Solution USP, 5 mg/mL | Do.
ANDA 073479 | Pentamidine Isethionate for Injection, 300 mg Vial | Hospira, Inc.
ANDA 074636 | Iopamidol Injection USP, 41%, 51%, 61%, 76% | Do.
ANDA 074898 | Iopamidol Injection USP, 41%, 51%, 61%, 76% | Do.
ANDA 075065 | Acyclovir Sodium for Injection | Do.
ANDA 075176 | Haloperidol Decanoate Injection, 50 mg/mL and 100 mg/mL | Do.
ANDA 075409 | Midazolam HCl Injection, 1 mg (base)/mL and 5 mg (base)/mL | Do.
ANDA 075884 | Milrinone Lactate Injection, 1 mg/mL | Do.
ANDA 076306 | Topiramate Tablets, 25 mg, 50 mg, 100 mg, and 200 mg | Roxane Laboratories, Inc., 1809 Wilson Rd., Columbus, OH 43228.
ANDA 077138 | Ciprofloxacin Injection USP in 5% Dextrose Injection | Teva Pharmaceuticals USA.
ANDA 077223 | Terbinafine HCl Tablets, 250 mg (base) | Roxane Laboratories, Inc.
ANDA 077784 | Risperidone Tablets, 0.25 mg, 0.5 mg, 1 mg, 2 mg, 3 mg, and 4 mg | Ratiopharm Inc., c/o Columbia Pharma Consulting Services Inc., 490 Northwest Datewood Dr., Suite 400, Issaquah, WA 98027.
ANDA 078241 | Sumatriptan Succinate Tablets, 25 mg, 50 mg, and 100 mg (base) | Roxane Laboratories, Inc.
ANDA 078318 | Sumatriptan Injection, 4 mg (base)/0.5 mL and 6 mg (base)/0.5 mL | TEVA Parenteral Medicines, Inc., 19 Hughes, Irvine, CA 92618.
ANDA 078416 | Prednisolone Sodium Phosphate Oral Solution, 5 mg (base)/5 mL | Vintage Pharmaceuticals, 120 Vintage Dr., Huntsville, AL 35811.
ANDA 078517 | Venlafaxine HCl Tablets, 25 mg (base), 37.5 mg (base), 50 mg (base), 75 mg (base), and 100 mg (base) | PLIVA Hrvatska d.o.o., c/o Barr Laboratories, Inc., 400 Chestnut Ridge Rd., Woodcliff Lake, NJ 07677
ANDA 080997 | Succinylcholine Chloride Injection USP, 20 mg/mL | Organon USA Inc.
ANDA 081125 | Dexamethasone Sodium Phosphate Injection USP, 4 mg/mL | TEVA Parenteral Medicines, Inc., 19 Hughes, Irvine, CA 92618.
ANDA 081126 | Dexamethasone Sodium Phosphate Injection USP | Do.
ANDA 081298 | Chlorzoxazone Tablets, 250 mg | Ranbaxy Inc., U.S. Agent for Ohm, 600 College Rd. East, Princeton, NJ 08540.
ANDA 081299 | Chlorzoxazone Tablets, 500 mg | Do.
ANDA 081310 | Fluphenazine HCl Elixir USP, 2.5 mg/5 mL | Teva Pharmaceuticals USA.
ANDA 087005 | Trichlormethiazide Tablets, 4 mg | Par Pharmaceutical, Inc., One Ram Ridge Rd., Spring Valley, NY 10977.
ANDA 087007 | Trichlormethiazide Tablets, 2 mg | Do.
ANDA 087032 | Chlorpromazine HCl Oral Concentrate USP, 30 mg/mL | Morton Grove Pharmaceuticals, Inc., U.S. Agent for Wockhardt EU Operations (Swiss) AG, 6451 West Main St., Morton Grove, IL 60053.
ANDA 087053 | Chlorpromazine HCl Oral Concentrate USP, 100 mg/mL | Do.
ANDA 087406 | Oxycodone and Acetaminophen Tablets USP, 5 mg/325 mg | Barr Laboratories, Inc., 400 Chestnut Ridge Rd., Woodcliff Lake, NJ 07677.
ANDA 087585 | Potassium Chloride for Injection Concentrate USP, 2 mEq/mL | Luitpold Pharmaceuticals, Inc., One Luitpold Dr., P.O. Box 9001, Shirley, NY 11967.
ANDA 088143 | Trifluoperazine Oral Solution USP, 10 mg/mL | Morton Grove Pharmaceuticals, Inc., U.S. Agent for Wockhardt EU Operations (Swiss) AG.
ANDA 088194 | Thioridazine HCl Tablets USP, 50 mg | Ivax Pharmaceuticals, Inc., Subsidiary of Teva Pharmaceuticals USA, 400 Chestnut Ridge Rd., Woodcliff Lake, NJ 07677.
ANDA 088227 | Thioridazine HCl Oral Solution USP (Concentrate), 100 mg/mL | Morton Grove Pharmaceuticals, Inc., U.S. Agent for Wockhardt EU Operations (Swiss) AG.
ANDA 088258 | Thioridazine HCl Oral Solution USP (Concentrate), 30 mg/mL | Do.
ANDA 088270 | Thioridazine HCl Tablets USP, 10 mg | Ivax Pharmaceuticals, Inc., Subsidiary of Teva Pharmaceuticals USA.
ANDA 088271 | Thioridazine HCl Tablets USP, 15 mg | Do.
ANDA 088272 | Thioridazine HCl Tablets USP, 25 mg | Do.
ANDA 088273 | Thioridazine HCl Tablets USP, 100 mg | Do.
ANDA 088456 | Thioridazine HCl Tablets USP, 100 mg | Teva Pharmaceuticals USA.
ANDA 088493 | Thioridazine HCl Tablets USP, 10 mg | Do.
ANDA 088850 | Hydroflumethiazide Tablets USP, 50 mg | Par Pharmaceutical, Inc.
ANDA 088907 | Reserpine and Hydroflumethiazide Tablets, 0.125 mg/50 mg | Do.
ANDA 088933 | Sulfinpyrazone Tablets, 100 mg | Do.
ANDA 088934 | Sulfinpyrazone Capsules USP, 200 mg | Do.
ANDA 089135 | Methyclothiazide Tablets, 2.5 mg | Do.
ANDA 089136 | Methyclothiazide Tablets, 5 mg | Do.
ANDA 089173 | A-MethaPred (methylprednisolone sodium succinate for injection USP), 500 mg (base)/Vial | Hospira, Inc.
ANDA 089174 | A-MethaPred (methylprednisolone sodium succinate for injection USP), 1 gram (base)/Vial | Do.
ANDA 089207 | Methylprednisolone Tablets USP, 16 mg | Par Pharmaceutical, Inc.
ANDA 089208 | Methylprednisolone Tablets USP, 24 mg | Do.
ANDA 089209 | Methylprednisolone Tablets USP, 32 mg | Do.
ANDA 089457 | Perphenazine Tablets USP, 16 mg | Ivax Pharmaceuticals, Inc., Subsidiary of Teva Pharmaceuticals USA.
ANDA 089602 | Thioridazine HCl Oral Solution USP, 30 mg/mL | Teva Pharmaceuticals USA.
ANDA 089603 | Thioridazine HCl Oral Solution USP, 100 mg/mL | Do.
ANDA 089624 | Reversol (edrophonium chloride injection USP), 10 mg/mL) | Organon USA Inc.
ANDA 089657 | Methocarbamol and Aspirin Tablets, 400 mg/325 mg | Par Pharmaceutical, Inc.
ANDA 089708 | Perphenazine Tablets USP, 4 mg | Ivax Pharmaceuticals, Inc., Subsidiary of Teva Pharmaceuticals USA.
¹ This product included an oral pressurized metered-dose inhaler that contained chlorofluorocarbons (CFCs) as a propellant. CFCs may no longer be used as a propellant for any albuterol or salmeterol metered-dose inhalers (see 70 FR 17168, April 4, 2005; 71 FR 70870, December 7, 2006).

Therefore, under section 505(e) of the Federal Food, Drug, and Cosmetic Act (FD&C Act) (21 U.S.C. 355(e)) and under authority delegated to the Director, Center for Drug Evaluation and Research, by the Commissioner, approval of the applications listed in table 1 in this document, and all amendments and supplements thereto, is hereby withdrawn, effective April 18, 2012. Introduction or delivery for introduction into interstate commerce of products without approved new drug applications violates section 301(a) and (d) of the FD&C Act (21 U.S.C. 331(a) and (d)). Drug products that are listed in table 1 in this document that are in inventory on the date that this notice becomes effective (see the DATES section) may continue to be dispensed until the inventories have been depleted or the drug products have reached their expiration dates or otherwise become violative, whichever occurs first.

Dated: February 16, 2012.
Janet Woodcock,
Director, Center for Drug Evaluation and Research.

[FR Doc. 2012-6591 Filed 3-16-12; 8:45 am]

BILLING CODE 4160-01-P